DEPARTMENT OF ENERGY

Federal Energy Regulatory Commission

[Docket No. ER00-3248-000]

Virginia Electric and Power Company; Notice of Filing

September 12, 2000.

Take notice that on July 24, 2000, Virginia Electric and Power Company (Virginia Power) tendered for filing a Letter of Termination to Conectiv Energy Supply, Inc. (Conectiv) successor to Atlantic City Electric, under its Service Agreement with Virginia Power dated November 6, 1995 and approved by the FERC by letter order dated February 8, 1996 in Docket No. ER96-653-000. In the letter, Virginia Power notifies Conective that the Service Agreement with Atlantic City Electric Company is to terminate. Virginia Power requests that the letter of Termination be designated as First Revised Service Agreement No. 47 under FERC Electric Tariff, Original Volume No. 4.

Virginia Power also respectfully requests an effective date of the termination of the Service Agreement of September 24, 2000, which is sixty (60) days from the date of the filing of the Letter of Termination.

Copies of the filing were served upon Conective Energy Supply, Inc., the Virginia State Corporation Commission and the North Carolina Utilities Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 22, 2000. Protests will be considered by the Commission to determine the appropriate action to be taken, but will not serve to make protestants parties to the proceedings. Any person wishing to become a party must file a motion to intervene. Copies of this filing are on file with the Commission and are available for public inspection. This filing may also be viewed on the Internet at http;//www.ferc.fed.us/online/rims.htm (call 202-208-2222 for assistance).

Linwood A. Watson, Jr.,
Acting Secretary.

[FR Doc. 00-23840 Filed 9-15-00; 8:45 am]

BILLING CODE 6717-01-M